ENVIRONMENTAL PROTECTION AGENCY

[FRL-9980-40-OA]

Notification of a Public Meeting of the Clean Air Scientific Advisory Committee (CASAC) Secondary National Ambient Air Quality Standards Review Panel for Oxides of Nitrogen and Sulfur

AGENCY: Environmental Protection Agency (EPA).

ACTION: Notice.

SUMMARY: The EPA Science Advisory Board (SAB) Staff Office announces a public meeting of the Clean Air Scientific Advisory Committee (CASAC) Secondary National Ambient Air Quality Standards Review Panel for Oxides of Nitrogen and Sulfur to peer review: (1) EPA's Integrated Science Assessment (ISA) for Oxides of Nitrogen, Oxides of Sulfur, and Particulate Matter—Ecological Criteria (Second External Review Draft), and (2) Review of the Secondary National Ambient Air Quality Standards for Ecological Effects of Oxides of Nitrogen, Oxides of Sulfur and Particulate Matter: Risk and Exposure Assessment Planning Document.

DATES: The public meeting of the CASAC Secondary National Ambient Air Quality Standards Review Panel for Oxides of Nitrogen and Sulfur will be held on Wednesday, September 5, 2018, from 9:00 a.m. to 5:15 p.m. (Eastern Time) and Thursday, September 6, 2018, from 8:00 a.m. to 3:30 p.m. (Eastern Time).

ADDRESSES: The public meeting will be held at the Hilton Durham Hotel Near Duke University, 3800 Hillsborough Road, Durham, North Carolina, 27705.

FOR FURTHER INFORMATION CONTACT: Any member of the public wishing to obtain information concerning the public meeting may contact Dr. Thomas Armitage, Designated Federal Officer (DFO), EPA Science Advisory Board Staff Office (1400R), U.S. Environmental Protection Agency, 1200 Pennsylvania Avenue NW, Washington, DC 20460; by telephone at (202) 564-2155 or at armitage.thomas@epa.gov. General information about the CASAC, as well as any updates concerning the meetings announced in this notice, may be found on the CASAC web page at http://www.epa.gov/casac.

SUPPLEMENTARY INFORMATION: The CASAC was established pursuant to the Clean Air Act (CAA) Amendments of 1977, codified at 42 U.S.C. 7409(d)(2), to review air quality criteria and National Ambient Air Quality Standards (NAAQS) and recommend any new NAAQS and revisions of existing criteria and NAAQS as may be appropriate. The CASAC is a Federal Advisory Committee chartered under the Federal Advisory Committee Act (FACA), 5 U.S.C., App. 2. Section 109(d)(1) of the CAA requires that the Agency periodically review and revise, as appropriate, the air quality criteria and the NAAQS for the six “criteria” air pollutants, including oxides of nitrogen, oxides of sulfur, and particulate matter (PM). EPA is currently reviewing the secondary (welfare-based) ambient air quality standards for oxides of nitrogen, oxides of sulfur, and PM.

Pursuant to FACA and EPA policy, notice is hereby given that the CASAC Secondary National Ambient Air Quality Standards Review Panel for Oxides of Nitrogen and Sulfur will hold a public face-to-face meeting to review EPA's Integrated Science Assessment for Oxides of Nitrogen, Oxides of Sulfur, and Particulate Matter—Ecological Criteria (Second External Review Draft), and Review of the Secondary National Ambient Air Quality Standards for Ecological Effects of Oxides of Nitrogen, Oxides of Sulfur and Particulate Matter: Risk and Exposure Assessment Planning Document. The CASAC Secondary National Ambient Air Quality Standards Review Panel for Oxides of Nitrogen and Sulfur will comply with the provisions of FACA and all appropriate SAB Staff Office procedural policies. The Panel will provide advice to the EPA Administrator through the chartered CASAC.

Technical Contacts: Any technical questions concerning the Integrated Science Assessment for Oxides of Nitrogen, Oxides of Sulfur, and Particulate Matter—Ecological Criteria (Second External Review Draft) should be directed to Dr. Tara Greaver (greaver.tara@epa.gov), EPA Office of Research and Development. Any technical questions concerning the Review of the Secondary National Ambient Air Quality Standards for Ecological Effects of Oxides of Nitrogen, Oxides of Sulfur and Particulate Matter: Risk and Exposure Assessment Planning Document should be directed to Ms. Karen Wesson (wesson.karen@epa.gov), EPA Office of Air and Radiation.

Availability of Meeting Materials: Prior to the meeting, the review documents, agenda and other materials will be available on the CASAC web page at http://www.epa.gov/casac/.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit relevant comments on the topic of this advisory activity, including the charge to the panel and the EPA review documents, and/or the group conducting the activity, for the CASAC to consider as it develops advice for EPA. Input from the public to the CASAC will have the most impact if it provides specific scientific or technical information or analysis for CASAC panels to consider or if it relates to the clarity or accuracy of the technical information. Members of the public wishing to provide comment should follow the instructions below to submit comments.

Oral Statements: In general, individuals or groups requesting an oral presentation at a public meeting will be limited to five minutes. Each person making an oral statement should consider providing written comments as well as their oral statement so that the points presented orally can be expanded upon in writing. Interested parties should contact Dr. Thomas Armitage, DFO, in writing (preferably via email) at the contact information noted above by August 29, 2018, to be placed on the list of public speakers.

Written Statements: Written statements will be accepted throughout the advisory process; however, for timely consideration by CASAC members, statements should be supplied to the DFO (preferably via email) at the contact information noted above by August 29, 2018. It is the SAB Staff Office general policy to post written comments on the web page for the advisory meeting or teleconference. Members of the public should be aware that their personal contact information (including signatures), if included in any written comments, may be posted to the CASAC website. Copyrighted material will not be posted without explicit permission of the copyright holder.

Accessibility: For information on access or services for individuals with disabilities, please contact Dr. Thomas Armitage at (202) 564-2155 or armitage.thomas@epa.gov. To request accommodation of a disability, please contact Dr. Armitage preferably at least ten days prior to the meeting to give EPA as much time as possible to process your request.

Dated: June 21, 2018.
Khanna Johnston,
Deputy Director, EPA Science Advisory Staff Office.

[FR Doc. 2018-14685 Filed 7-6-18; 8:45 am]

BILLING CODE 6560-50-P